DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 1745-17459, dated April 1, 2015) is amended to reflect the reorganization of the Office of Public Health Preparedness and Response, Centers for Disease Control and Prevention.

Section C-B, Organization and Functions, is hereby amended as follows:

Delete item (8) of the functional statement for the Office of the Director (CGE1), Division of Strategic National Stockpile (CGE), Office of Public Health Preparedness and Response (CG), and renumber remaining items accordingly.

Delete in its entirety the mission statement for the Division of State and Local Readiness (CGC) and insert the following:

Division of State and Local Readiness (CGC): The Division of State and Local Readiness provides program support, technical assistance, guidance, technical integration and capacity building of preparedness planning across the public health, healthcare, and emergency management sectors and fiscal oversight to state, local, tribal and territorial public health department grantees for the development, monitoring and evaluation of public health capabilities, plans, infrastructure and systems to prepare for and respond to terrorism, outbreaks of disease, natural disasters and other public health emergencies.

After the title and functional statement for the Field Services Branch (CGCD), Division of State and Local Readiness (CGC), Office of Public Health Preparedness and Response (CGA), insert the following:

Public Health and Health Systems Capacity Building Branch (CGCE). (1) Facilitates the improvement of the preparedness and response capabilities of the nation's public health and healthcare system in collaboration with Hospital Preparedness Program/Assistant Secretary for Preparedness and Response (HPP/ASPR) to strengthen the intersect between public health, healthcare systems, and emergency management at the state and local level, specifically, this branch strives to improve medical countermeasure planning at the state and local level; (2) creates a system for assuring coordination, collaboration, and communication between HPP/ASPR and the Division of State and Local Readiness, CDC; (3) improves states and local healthcare systems planning and response through development of guidance, tools, program monitoring, technical assistance, and training; (4) improves the delivery of technical assistance to the public health and healthcare sector; (5) serves as an agent of information to improve awardee access to healthcare preparedness tools and expertise; (6) assures healthcare system preparedness in the top 10 Urban Areas Security Initiative (UASI) regions covered by executive order 13527; (7) facilitates the enhancement of healthcare preparedness at the state/local public health department level to have a national impact; (8) provides health communications guidance and products before, during, and after an event to assist state/local public health departments and the healthcare systems in developing risk communicating strategies and messages; and (9) collaborates with the Division of Strategic National Stockpile, Response and Logistics Branches during exercises or upon a federal deployment of DSNS assets.

James Seligman,
Acting Chief Operating Officer, Centers for Disease Control and Prevention.

[FR Doc. 2015-12513 Filed 5-22-15; 8:45 am]

BILLING CODE 4160-18-P